DEPARTMENT OF TRANSPORTATION

Federal Aviation Administration

14 CFR Part 39

[Docket No. FAA-2007-0171; Directorate Identifier 2007-NM-220-AD; Amendment 39-15330; AD 2008-01-05]

RIN 2120-AA64

Airworthiness Directives; Airbus Model A310 Series Airplanes

AGENCY: Federal Aviation Administration (FAA), Department of Transportation (DOT).

ACTION: Final rule.

SUMMARY: The FAA is superseding an existing airworthiness directive (AD), that applies to certain Airbus Model A310 series airplanes. That AD currently requires modification of certain wires in the right-hand (RH) wing. This new AD requires further modification by installing an additional protection sleeve and segregating route 2S in the RH pylon area. This AD results from analysis of wire routing that revealed that route 2S of the fuel electrical circuit, located in the RH wing, does not provide adequate separation of fuel quantity indication wires from wires carrying 115-volt alternating current (AC). We are issuing this AD to ensure that fuel quantity indication wires are properly separated from wires carrying 115-volt AC. Improper separation of such wires, in the event of wire damage, could lead to a short circuit and a possible ignition source, which could result in a fire in the airplane.

DATES: This AD becomes effective February 20, 2008.

The Director of the Federal Register approved the incorporation by reference of a certain publication listed in the AD as of February 20, 2008.

On September 3, 2004 (69 FR 45578, July 30, 2004), the Director of the Federal Register approved the incorporation by reference of Airbus Service Bulletin A310-28-2148, Revision 01, dated October 29, 2002.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

The FAA issued a notice of proposed rulemaking (NPRM) to amend 14 CFR part 39 to include an AD that supersedes AD 2004-15-16, amendment 39-13750 (69 FR 45578, July 30, 2004). The existing AD applies to certain Airbus Model A310 series airplanes. That NPRM was published in the Federal Register on November 9, 2007 (72 FR 63506). That NPRM proposed to continue to require modification of certain wires in the right-hand (RH) wing. That NPRM also proposed to require further modification by installing an additional protection sleeve and segregating route 2S in the RH pylon area.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Modification (required by AD 2004-15-16) | 35 | $80 | $4,459 | $7,259 | 68 | $493,612
Further Modification (new proposed action) | 22 | 80 | 1,870 | 3,630 | 68 | 246,840

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13750 (69 FR 45578, July 30, 2004) and by adding the following new airworthiness directive (AD):

2008-01-05 Airbus: Amendment 39-15330. Docket No. FAA-2007-0171; Directorate Identifier 2007-NM-220-AD.

Effective Date

(a) This AD becomes effective February 20, 2008.

Affected ADs

(b) This AD supersedes AD 2004-15-16.

Applicability

(c) This AD applies to Model A310 series airplanes, certificated in any category, all certified models, all serial numbers, except airplanes on which Airbus Service Bulletin A310-28-2148, Revision 02, dated March 9, 2007, has been done (Airbus Modifications 12427 and 12435).

Unsafe Condition

(d) This AD results from analysis of wire routing that revealed that route 2S of the fuel electrical circuit, located in the right-hand (RH) wing, does not provide adequate separation of fuel quantity indication wires from wires carrying 115-volt alternating current (AC). We are issuing this AD to ensure that fuel quantity indication wires are properly separated from wires carrying 115-volt AC. Improper separation of such wires, in the event of wire damage, could lead to a short circuit and a possible ignition source, which could result in a fire in the airplane.

Compliance

(e) You are responsible for having the actions required by this AD performed within the compliance times specified, unless the actions have already been done.

Restatement of Requirements of AD 2004-15-16

Modification

(f) Within 4,000 flight hours after September 3, 2004 (the effective date of AD 2004-15-16): Modify the routing of wires in the RH wing by installing cable sleeves, per the Accomplishment Instructions of Airbus Service Bulletin A310-28-2148, Revision 01, dated October 29, 2002; or Revision 02, dated March 9, 2007. As of the effective date of this AD, Revision 02 must be used.

Actions Accomplished Previously

(g) Modification of the routing of wires accomplished before September 3, 2004, per Airbus Service Bulletin A310-28-2148, dated January 23, 2002, is acceptable for compliance with the corresponding requirements of paragraph (f) of this AD.

New Requirements of This AD

Modification (Additional Work)

(h) For airplanes on which the actions specified in Airbus Service Bulletin A310-28-2148, dated January 23, 2002; or Airbus Service Bulletin A310-28-2148, Revision 01, dated October 29, 2002; have been done before the effective date of this AD: Within 6,000 flight hours or 30 months after the effective date of this AD, whichever occurs first, perform further modification by installing additional protection sleeves in the outer wing area near the cadensicon sensor and segregating wire route 2S in the RH pylon area, in accordance with the Accomplishment Instructions of Airbus Service Bulletin A310-28-2148, Revision 02, dated March 9, 2007.

Alternative Methods of Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) European Aviation Safety Agency airworthiness directive 2007-0230, dated August 15, 2007, also addresses the subject of this AD.

Material Incorporated by Reference

(k) You must use Airbus Service Bulletin A310-28-2148, Revision 01, dated October 29, 2002; or Airbus Service Bulletin A310-28-2148, Revision 02, dated March 9, 2007; as applicable, to perform the actions that are required by this AD, unless the AD specifies otherwise.

(1) The Director of the Federal Register approved the incorporation by reference of Airbus Service Bulletin A310-28-2148, Revision 02, dated March 9, 2007, in accordance with 5 U.S.C. 552(a) and 1 CFR part 51.

(2) On September 3, 2004 (69 FR 45578, July 30, 2004), the Director of the Federal Register approved the incorporation by reference of Airbus Service Bulletin A310-28-2148, Revision 01, dated October 29, 2002.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on January 3, 2008.
Ali Bahrami,
Manager, Transport Airplane Directorate, Aircraft Certification Service.

[FR Doc. E8-370 Filed 1-15-08; 8:45 am]

BILLING CODE 4910-13-P